DEPARTMENT OF HOMELAND SECURITY

Federal Emergency Management Agency

[Docket ID: FEMA-2010-0042]

Agency Information Collection Activities: Proposed Collection; Comment Request, OMB No. 1660-0089; FEMA Mitigation Best Practices Portfolio

AGENCY: Federal Emergency Management Agency, DHS.

ACTION: Notice; 60-day notice and request for comments; revision of a currently approved information collection; OMB No. 1660-0089; FEMA Form 086-0-25, Mitigation Best Practice Submission Worksheet.

SUMMARY: The Federal Emergency Management Agency, as part of its continuing effort to reduce paperwork and respondent burden, invites the general public and other Federal agencies to take this opportunity to comment on a revision of a currently approved information collection. In accordance with the Paperwork Reduction Act of 1995, this Notice seeks comments concerning the documenting of the experiences of those persons affected by mitigation efforts. The information describes successful mitigation and flood insurance practices occurring in communities nationwide and provides a method to promote the Federal programs available that make available funding for mitigation activities.

DATES: Comments must be submitted on or before September 27, 2010.

ADDRESSES: To avoid duplicate submissions to the docket, please use only one of the following means to submit comments:

(1) Online. Submit comments at http://www.regulations.gov under Docket ID FEMA-2010-0042. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0042 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Contact Eugene Luke, Emergency Management Specialist, FEMA Mitigation, (202) 646-7902 for additional information. You may contact the Office of Records Management for copies of the proposed collection of information at facsimile number (202) 646-3347 or e-mail address: FEMA-Information-Collections-Management@dhs.gov.

SUPPLEMENTARY INFORMATION: Consistent with performance-based management practices mandated by the Government Performance Results Act (GPRA) (Pub. L. 103.62 Section 2) FEMA has established the FEMA Mitigation Best Practices success story process to collect and disseminate information describing successful mitigation and flood insurance practices occurring in communities nationwide. Title 44 CFR part 2 institutes the process whereby FEMA will promote mitigation activities through the availability of information regarding such. By making this type of detail available, FEMA can translate hazard data into useable information for community risk management. The stories incorporate mitigation strategies that have been successfully implemented and provide real-world evidence of the ability to protect against all hazards.

Collection of Information

Title: FEMA Mitigation Best Practices Portfolio (formerly known as FEMA Mitigation Success Story Database).

Type of Information Collection: Revision of a currently approved information collection.

OMB Number: 1660-0089.

Form Titles and Numbers: FEMA Form 086-0-25, Mitigation Best Practice Submission Worksheet.

Abstract: FEMA uses the information provided through success stories to document and disseminate first-hand experiences of mitigation activities that result in benefits to individuals. By sharing information, communities and individuals can learn about available Federal programs to support the implementation of noteworthy local activities that lead to less chance of a catastrophic event causing damage or possibly loss of life.

Affected Public: Individuals or households; State, local or Tribal Government.

Estimated Total Annual Burden Hours: 87.5 Hours.

Estimated Annualized Burden Hours and Costs
Type of respondent | Form name/form number | Number of respondents | Number of responses per respondent | Total number of responses | Avg. burden per response (in hours) | Total annual burden (in hours) | Avg. hourly wage rate | Total annual respondent cost
Individual or households | Informal Interviews/No Form | 5 | 1 | 5 | 4 | 20 | $28.45 | $569
Individual or households | FEMA Mitigation Success Story Database/086-0-25 | 45 | 1 | 45 | 1.5 | 67.5 | 28.45 | 1,920
Total |  | 50 |  | 50 |  | 87.5 |  | 2,489

Estimated Cost: There are no operation, maintenance, capital or start-up costs associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 16, 2010.
Tammi Hines,
Acting Director, Records Management Division, Mission Support Bureau, Federal Emergency Management Agency, Department of Homeland Security.

[FR Doc. 2010-18329 Filed 7-26-10; 8:45 am]

BILLING CODE 9110-11-P